DEPARTMENT OF VETERANS AFFAIRS

[OMB Control No. 2900-0394]

Agency Information Collection Activity under OMB Review: Certification of School Attendance—REPS

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0394”.

FOR FURTHER INFORMATION CONTACT: Maribel Aponte, Office of Enterprise and Integration, Data Governance Analytics (008), 1717 H Street NW, Washington, DC 20006, (202) 266-4688 or email maribel.aponte@va.gov. Please refer to “OMB Control No. 2900-0394” in any correspondence.

SUPPLEMENTARY INFORMATION: Authority: 38 U.S.C. 5101; 38 CFR 3.812.

Title: Certification of School Attendance—REPS (VA Form 21P-8926).

OMB Control Number: 2900-0394.

Type of Review: Reinstatement without change of a previously approved collection.

Abstract: Restored Entitlement Program for Survivors (REPS) is a benefit payable to certain surviving spouses and dependent children of deceased Veterans who died in service prior to August 13, 1981 or died as a result of a service-connected disability incurred or aggravated prior to August 13, 1981. VA Form 21P-8926 is used to verify beneficiaries receiving REPS benefits based on school-aged child status, are in fact enrolled full-time in an approved school and are otherwise eligible for continued benefits under REPS. Without the information provided on the form, determination of continued eligibility would not be possible. In an effort to safeguard Veterans and their beneficiaries from financial exploitation, the instructions on [insert VA form #] were amended to include information regarding VA-accredited attorneys or agents charging fees in connection with a proceeding before the Department of Veterans Affairs with respect to a claim.

An agency may not conduct or sponsor, and a person is not required to respond to a collection of information unless it displays a currently valid OMB control number. The Federal Register Notice with a 60-day comment period soliciting comments on this collection of information was published at: 86 FR 30 on February 17, 2021, page 10005.

Affected Public: Individuals or Households.

Estimated Annual Burden: 300 hours.

Estimated Average Burden per Respondent: 15 minutes.

Frequency of Response: Once.

Estimated Number of Respondents: 1,200.

By direction of the Secretary.
Dorothy Glasgow,
VA PRA Clearance Officer (Alt), Office of Enterprise and Integration, Data Governance Analytics, Department of Veterans Affairs.

[FR Doc. 2021-08503 Filed 4-22-21; 8:45 am]

BILLING CODE 8320-01-P